ENVIRONMENTAL PROTECTION AGENCY

[ER-FRL-6677-9]

Environmental Impact Statements and Regulations; Availability of EPA Comments

Availability of EPA comments prepared pursuant to the Environmental Review Process (ERP), under section 309 of the Clean Air Act and Section 102(2)(c) of the National Environmental Policy Act as amended. Requests for copies of EPA comments can be directed to the Office of Federal Activities at 202-564-7167. An explanation of the ratings assigned to draft Environmental Impact Statements (EISs) was published in FR dated April 7, 2006 (71 FR 17845).

Draft EISs

EIS No. 20060177, ERP No. D-I.-K28021-CA, Contra Costa Water District Alternative Intake Project, To Protect and Improve the Quality of Water Delivery to Untreated and Treated-Water

Customers, Contra Costa County, CA.

Summary: While EPA has no objection to the proposed action, EPA did request clarification of fisheries benefits and feasibility of implementing Alternative 3. Rating LO.

EIS No. 20060212, ERP No. D-AFS-K65310-CA, Freeman Project, Reduce Hazardous Fuel and Improving Forest Health, Implementation, Lake Recreation Area, Beckworth Ranger District, Plumas National Forest, Plumas County, CA.

Summary: EPA expressed environmental concerns about impacts to water quality, soil, and habitat for the California spotted owl, great gray owl, and northern goshawk. Rating EC2.

EIS No. 20060248, ERP No. D-NRS-E36186-KY, Rockhouse Creek Watershed Plan, To Protect Residential and Non-residential Structures from Recurrent Flood Problem, Leslie County, KY.

Summary: EPA does not object the proposed action. Rating LO.

EIS No. 20060249, ERP No. DA-FRC-C05146-00, Northeast (NE)-07 Project, Construction and Operation a Natural Gas Pipeline Facilities, Millennium Pipeline Project—Phase I, U.S. Army COE Section 10 and 404 Permits, several counties, NY, Morris County, NJ and Fairfield and New Haven Counties, CT.

Summary: EPA does not object to the proposed action. Rating LO.

EIS No. 20060294, ERP No. DS-AFS-K65184-CA, Rock Creek Recreational Trails Project, Updated Information on Habitat Status and Population Trend for the Pacific Deer Herd, Implementation, Eldorado National Forest, Eldorado County, CA.

Summary: No formal comment letter was sent to the preparing agency. Rating LO.

Final EISs

EIS No. 20060142, ERP No. F-AFS-L65401-ID, Sixshooter Project, To Reduce the Threats of Insect Infestation and Wildfire, Sixmile and West Fork Creek, Boise National Forest, Emmett Ranger District, Gem County, ID.

Summary: While EPA has no objections to the proposed action, EPA did request that measures to reduce the spread of noxious weeds and monitoring to assess effectiveness of project design, mitigation measures, and BMPs, be referenced in the Record of Decision.

EIS No. 20060252, ERP No. F-AFS-K65281-CA, Brown Project, Proposal to Improve Forest Health by Reducing Overcrowded Forest Stand Conditions, Trinity River Management Unit, Shasta-Trinity National Forest, Weaverville Ranger District, Trinity County, CA.

Summary: EPA continues to have environmental concerns about impacts to air quality, old growth, and watersheds.

EIS No. 20060186, ERP No. FS-TPT-K61154-CA, Presidio Trust Public Health Service Hospital (PUSH or Building 1801) at the Presidio of San Francisco (Area B) of Presidio Trust Management Plan, Rehabilitation and Reuse of Buildings, Gold Gate National Recreation Area, San Francisco Bay, Marin County, CA.

Summary: No formal comment letter was sent to the preparing agency.

EIS No. 20060243, ERP No. FS-FHW-F40309-00, MN-36/WI-64 St. Croix River Crossing Project, Construction of a new Crossing between the Cities of Stillwater and Oak Park Heights, Washington County, MN and the town of St. Joseph in St. Croix County, WI.

Summary: EPA does not object to the preferred alternative.

EIS No. 20060279, ERP No. FS-AFS-K65164-00, Southwestern Region Amendment of Forest Plans, Implementation, Updated Information, Standards and Guidelines for Northen Goshawk and Mexican Spotted Owl, AZ and NM.

Summary: No formal comment letter was sent to the preparing agency.

Dated: August 1, 2006.
Robert W. Hargrove,
Director, NEPA Compliance Division, Office of Federal Activities.

[FR Doc. E6-12632 Filed 8-3-06; 8:45 am]

BILLING CODE 6560-50-P